DEPARTMENT OF AGRICULTURE

National Institute of Food and Agriculture

Notice of Request for Applications for the Veterinary Medicine Loan Repayment Program

AGENCY: National Institute of Food and Agriculture, USDA.

ACTION: Notice.

SUMMARY: The National Institute of Food and Agriculture (NIFA) is announcing the release of the Veterinary Medicine Loan Repayment Program (VMLRP). General information regarding the VMLRP can be obtained at: www.nifa.usda.gov/vmlrp.

The Request for Applications (RFA) can be obtained at: http://nifa.usda.gov/vmlrp-request-applications-rfa.

DATES: The fiscal year (FY) 2015 Veterinary Medicine Loan Repayment Program (VMLRP) application package will be available at: http://nifa.usda.gov/vmlrp-request-applications-rfa. Applications must be received by June 22, 2015.

FOR FURTHER INFORMATION CONTACT: Danielle Tack, VMLRP Program Manager, Program Coordinator, Institute of Food Production and Sustainability, National Institute of Food and Agriculture, U.S. Department of Agriculture, Washington, DC 20024; telephone: (202) 401-6802; fax: (202) 720-6486; email: vmlrp@nifa.usda.gov.

SUPPLEMENTARY INFORMATION:

Background and Purpose

In January 2003, the National Veterinary Medical Service Act (NVMSA) was passed into law adding section 1415A to the National Agricultural Research, Extension, and Teaching Policy Act of 1997 (NARETPA). This law established a new Veterinary Medicine Loan Repayment Program (7 U.S.C. 3151a) authorizing the Secretary of Agriculture to carry out a program of entering into agreements with veterinarians under which they agree to provide veterinary services in veterinarian shortage situations.

On December 16, 2014, the President signed into law the Consolidated and Further Continuing Appropriations Act, 2015 (Pub. L. 113-235), which appropriated $5,000,000 for the VMLRP.

Section 7105 of FCEA amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

NARETPA section 1415A requires the Secretary, when determining the amount of repayment for a year of service by a veterinarian to consider the ability of USDA to maximize the number of agreements from the amounts appropriated and to provide an incentive to serve in veterinary service shortage areas with the greatest need. This section also provides that loan repayments may consist of payments of the principal and interest on government and commercial loans received by the individual for the attendance of the individual at an accredited college of veterinary medicine resulting in a degree of Doctor of Veterinary Medicine or the equivalent. This program is not authorized to provide repayments for any government or commercial loans incurred during the pursuit of another degree, such as an associate or bachelor degree. Loans eligible for repayment include educational loans made for one or more of the following: loans for tuition expenses; other reasonable educational expenses, including fees, books, and laboratory expenses, incurred by the individual; and reasonable living expenses as determined by the Secretary. In addition, the Secretary is directed to make such additional payments to participants as the Secretary determines appropriate for the purpose of providing reimbursements to participants for individual tax liability resulting from participation in this program. Finally, this section requires USDA to promulgate regulations within 270 days of the enactment of FCEA (i.e., June 18, 2008). The Secretary delegated the authority to carry out this program to NIFA.

The final rule was published in the Federal Register on April 19, 2010 (75 FR 20239). Based on comments received during the 60-day comment period upon publication of the interim rule on July 9, 2009 (74 FR 32788), NIFA reconsidered the policy regarding individuals who consolidated their veterinary school loans with other educational loans (e.g., undergraduate) and their eligibility to apply for the VMLRP. NIFA will allow these individuals to apply for and receive a VMLRP award; however, only the eligible portion of the consolidation will be repaid by the VMLRP. Furthermore, applicants with consolidated loans will be asked to provide a complete history of their student loans from the National Student Loan Database System (NSLDS), a central database for student aid operated by the U.S. Department of Education. The NSLDS Web site can be found at www.nslds.ed.gov. Individuals who consolidated their DVM loans with non-educational loans or loans belonging to an individual other than the applicant, such as a spouse or child, will continue to be ineligible for the VMLRP.

In FY 2010, NIFA announced its first funding opportunity for the VMLRP. In the five (5) program cycles since, NIFA has received 858 applications from which 291 VMLRP awards totaling $25,292,341 were issued. Consequently, up to $4,428,150 is available to support this program in FY 2015. Funding for future years will be based on annual appropriations and balances, if any, remaining from prior years. General information regarding the VMLRP can be obtained at the VMLRP Web site: http://www.nifa.usda.gov/vmlrp.

The eligibility criteria for applicants and the application forms and associated instructions needed to apply for a VMLRP award can be viewed and downloaded from the VMLRP Web site at: http://nifa.usda.gov/vmlrp-request-applications-rfa.

Done in Washington, DC, this 27th day of April, 2015.
Sonny Ramaswamy,
Director, National Institute of Food and Agriculture.

[FR Doc. 2015-10287 Filed 5-5-15; 8:45 am]

BILLING CODE 3410-22-P